DEPARTMENT OF HEALTH AND HUMAN SERVICES

Office of the Secretary

Notice of Meeting: Secretary's Advisory Committee on Genetic Testing

Pursuant to Public Law 92-463, notice is hereby given of the twelfth meeting of the Secretary's Advisory Committee on Genetic Testing (SACGT), U.S. Public Health Service. The meeting will be held from 9 a.m. to 5 p.m. on February 13, 2002, and 8:30 a.m. to 5 p.m. on February 14, 2002, at the Bethesda Marriott, 5151 Pooks Hill road, Bethesda, MD 20814. The meeting will be open to the public with attendance limited to space available.

The Committee will discuss a number of topics, including a report from HHS agencies on their support of activities that increase the knowledge and utility of genetic tests, horizon scanning in genetic testing, and the Informed Consent Work Group's development of principles of informed consent in clinical and public health settings. Through a number of invited presentations, the Committee will also begin exploring issues regarding the collection and analysis of population data by race and ethnicity in health policy generally and in genetic testing specifically. Time will be provided for public comment and interested individuals should notify the contact person listed below.

Under authority of 42 U.S.C. 217a, section 222 of the Public Health Service Act, as amended, the Department of Health and Human Services established SACGT to advise and make recommendations to the Secretary through the Assistant Secretary for Health on all aspects of the development and use of genetic tests. SACGT is directed to (1) recommend policies and procedures for the safe and effective incorporation of genetic technologies into health care; (2) assess the effectiveness of existing and future measures for oversight of genetic tests; and (3) identify research needs related to the Committee's purview.

The draft meeting agenda and other information about SACGT will be available at the following web site: http://www4.od.nih.gov/oba/sacgt.htm. Individuals who wish to provide public comment or who plan to attend the meeting and need special assistance, such as sign language interpretation or other reasonable accommodations, should notify the SACGT Executive Secretary, Ms. Sarah Carr, by telephone at 301-496-9838 or E-mail at sc112c@nih.gov. The SACGT office is located at 6705 Rockledge Drive, Suite 750, Bethesda, Maryland 20892.

Dated: January 15, 2002.
Sarah Carr,
Executive Secretary, SACGT.

[FR Doc. 02-1793 Filed 1-23-02; 8:45 am]

BILLING CODE 4140-01-M